DEPARTMENT OF THE INTERIOR

Bureau of Land Management

[CACA 049584, LLCAD015000.L51010000.ER0000.15X.LVRWB09B3130]

Notice of Availability of a Proposed Land Use Plan Amendment and Final Environmental Impact Statement and Final Environmental Impact Report for the Proposed Soda Mountain Solar Project, San Bernardino County, CA

AGENCY: Bureau of Land Management, Interior.

ACTION: Notice.

SUMMARY: In accordance with the National Environmental Policy Act of 1969, as amended (NEPA), and the Federal Land Policy and Management Act of 1976, as amended, the Bureau of Land Management (BLM) Barstow Field Office, Barstow, California, has prepared a Proposed California Desert Conservation Area (CDCA) Plan Amendment and Joint Final Environmental Impact Statement (EIS) and Environmental Impact Report (EIR) in cooperation with San Bernardino County for the Soda Mountain Solar Project (Project), and by this notice is announcing their availability. The Proposed Project is a 358 megawatt (MW) photovoltaic (PV) solar energy generation facility, along with supporting infrastructure, in rural San Bernardino County. After review, the BLM's Preferred Alternative identified in the Final EIS excludes the proposed northern solar array, includes the Applicant Proposed alignment for Rasor Road, and excludes the proposed brine ponds associated with reverse osmosis treatment of groundwater. The BLM's Preferred Alternative would reduce the Project size from 2,557 to 1,923 acres, and decrease the Project's output from 358 to 264 MW.

DATES: BLM planning regulations state that any person who meets the conditions as described in the regulations may protest the BLM's proposed plan amendment/final EIS. A person who meets the conditions and files a protest must file the protest within 30 days of the date that the Environmental Protection Agency publishes its notice of availability of the proposed plan amendment/final EIS in the Federal Register.

ADDRESSES: Copies of the proposed plan amendment/final EIS and EIR have been sent to affected Federal, State, and local government agencies and to other stakeholders. Copies of the proposed plan amendment/final EIS and EIR are available for public inspection at the Barstow Field Office, 2601 Barstow Road, Barstow, CA 92311; and the California Desert District Office, 22835 Calle San Juan de Los Lagos, Moreno Valley, CA 92553-9046. Interested persons may also review the proposed plan amendment/final EIS and EIR on the Internet at http://www.blm.gov/ca/st/en/fo/cdd.html. All protests must be in writing and mailed. For regular mail, please send protests to: BLM Director (210), Attention: Protest Coordinator, P.O. Box 71383, Washington, DC 20024-1383. For overnight mail or other delivery, please send protests to: BLM Director (210), Attention: Protest Coordinator, 20 M St. SE., Room 2134LM, Washington, DC 20003.

FOR FURTHER INFORMATION CONTACT: Jeffery Childers; telephone, 760-252-6020; mail, BLM Barstow Field Office, 2601 Barstow Road, Barstow, CA 92311; email, jchilders@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM has received a right-of-way (ROW) application from Soda Mountain Solar, LLC to construct, operate, maintain, and decommission a PV power plant facility along with the necessary ancillary facilities. The Project as proposed by the Applicant would occupy approximately 2,557 acres, within a 4,170 right-of-way application area. The Project is located along Interstate 15 (I-15), south of Blue Bell Mine Road, about 6 miles southwest of Baker, California, and 52 miles northeast of Barstow, California. As initially proposed, the Project would include solar array fields, access roads, collector lines, a substation with switchyard and interconnection, ancillary buildings, groundwater production, test, and observation water wells, water tanks, a water treatment and storage facility, brine ponds, warehouses, fencing, berms, other infrastructure, and laydown areas. The Project will be accessed by the existing Rasor and Blue Bell Mine roads. New internal roads would be constructed among collector lines, substation, solar arrays and sub arrays, and other ancillary facilities. The interconnection to the proposed substation and collector lines from the arrays would be via underground trench, including underground trenching beneath I-15. The Project as proposed by the Applicant would have up to 358 megawatts of generating capacity which would interconnect with existing power lines. The BLM Preferred Alternative would eliminate the array north of Interstate 15 which would reduce the permitted project to 264 megawatts of solar energy.

In connection with its decision on the proposed Project, the BLM is considering an amendment to the CDCA Plan, as analyzed in the final EIS and EIR alternatives. The CDCA Plan, while recognizing the potential compatibility of solar energy facilities on public lands, requires that all sites associated with power generation or transmission not identified in the CDCA Plan be considered through the land use plan amendment process. The BLM is deciding whether to amend the CDCA Plan to identify the Project site as suitable or unsuitable for solar development.

The proposed plan amendment/final EIS and EIR describes the following seven alternatives: Alternative A: The Applicant Proposed Action—358 MW on 2,557 acres; Alternative B (Preferred Alternative)—264 MW project on 1,923 acres; Alternative C—298 MW project on 2,354 acres; Alternative D—250 MW project on 2,134 acres; Alternative E—No action alternative/no project approval, no issuance of a ROW Grant, no county approval of a groundwater well permit, no Land Use Plan amendment; Alternative F—BLM approves project with no county approval of a groundwater well permit; and Alternative G—Planning decision identifying the area as unsuitable for solar through a Land Use Plan Amendment, with no issuance of a ROW Grant, and no county approval of a groundwater well permit. All of the alternatives, except Alternative E, would include an amendment to the CDCA Plan. The Agency Preferred Alternative identified as Alternative B, removes the northern array and associated facilities, includes the Applicant Proposed alignment for Rasor Road, and excludes the proposed brine ponds associated with reverse osmosis treatment of groundwater, as contemplated under Alternative F. The BLM's Preferred Alternative would reduce the Project size from 2,557 to 1,923 acres, and decrease the Project's output from 358 to 264 MW.

The proposed plan amendment/final EIS and EIR evaluates the potential impacts of the proposed Soda Mountain Solar Project on air quality, biological resources, cultural resources, water resources, geological resources and hazards, land use, noise, paleontological resources, public health, socioeconomics, soils, traffic and transportation, visual resources, and other resources.

Mitigation measures would be implemented to avoid, minimize, rectify, reduce, or compensate for adverse impacts of the Project. These include:

• Wildlife: The acquisition of compensatory mitigation land at a 1:1 ratio would be required for all desert tortoise habitat and all active burrowing owl territories disturbed. Wildlife would be avoided or relocated (e.g., burrowing owls) to the extent feasible and trenching would be managed to minimize wildlife entrapment. An avian monitoring program will be implemented with an adaptive management program that would identify and implement project-specific mitigation measures to reduce bird mortality that may occur as a result of the Project. Additional water sources for bighorn sheep would be required in coordination with the California Department of Fish and Wildlife and the National Park Service. An adaptive management strategy aimed at maintaining existing foraging, movement, and feeding opportunities for bighorn sheep would be required with the goal of improving opportunities to restore sheep movement and connectivity. The adaptive management strategy would include funding for a 10-year bighorn sheep study to examine the response of sheep to the project and to inform adaptive management actions, including culvert crossing improvements, temporary water sources near culverts, measures to minimize the effects of human activities on bighorn sheep, and funding for additional regional connectivity projects for bighorn sheep. Mitigation measures would also include monitoring for bighorn sheep during construction and compensation for loss of bighorn sheep foraging habitat.

• Cultural/Paleontological Resources: Impacts to onsite and any nearby cultural, archaeological, and paleontological resources, if discovered, would be avoided by having archeological, paleontological, and Native American participants onsite during construction.

• Hydrology: A comprehensive drainage, stormwater, and sedimentation control plan would be prepared and implemented to avoid or minimize the Project's potential to cause or result in additional erosion and sedimentation.

• Air quality: Water would be applied to disturbed and actively-used areas during both construction and operation. A dust-control plan would be prepared and implemented pursuant to the Mojave Desert Air Quality Management District's Rule 403.2.

• Groundwater: A draft groundwater monitoring and mitigation plan has been prepared that includes trigger points to avoid adverse impacts associated with groundwater drawdown.

• Visual: All structures would be painted with BLM-approved colors; nighttime lighting would be minimized; and a glint and glare assessment, mitigation, and monitoring plan would be prepared and implemented.

The BLM published a Notice of Intent to prepare an EIS and EIR for the project in the Federal Register on October 23, 2012 (77 FR 64824). The BLM and San Bernardino County held joint public scoping meetings in Barstow on November 14, 2012. The formal scoping period ended on December 14, 2012.

The BLM published a Notice of Availability of the draft plan amendment/draft EIS and EIR for the Project in the Federal Register on November 29, 2013 (78 FR 71640). The BLM and San Bernardino County held three public meetings: two in Barstow on January 8 and 9, 2014, and a third in Yucca Valley on January 11, 2014, to provide additional information to the public regarding the analysis.

Comments on the draft plan amendment/draft EIS and EIR received from agencies, members of the public, and internal lead and cooperating agency review were considered and incorporated as appropriate into the proposed plan amendment/final EIS and EIR. Instructions for filing a protest with the Director of the BLM regarding the proposed Plan Amendment/final EIS and EIR may be found in the “Dear Reader” Letter of the proposed plan amendment/final EIS and EIR and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the emailed protest as an advance copy and it will receive full consideration. If you wish to provide the BLM with such advance notification, please direct emails to protest@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2; 43 CFR 1610.5.

Thomas Pogacnik,
Deputy State Director, California.

[FR Doc. 2015-13925 Filed 6-5-15; 4:15 pm]

BILLING CODE 4310-40-P